DEPARTMENT OF HEALTH AND HUMAN SERVICES

Centers for Medicare & Medicaid Services

[Document Identifier: CMS-10572 and CMS-10781]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by September 21, 2021.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: ___, Room C4-26-05, 7500 Security Boulevard, Baltimore, Maryland 21244-1850.

To obtain copies of a supporting statement and any related forms for the proposed collection(s) summarized in this notice, you may make your request using one of following:

1. Access CMS' website address at website address at https://www.cms.gov/Regulations-and-Guidance/Legislation/PaperworkReductionActof1995/PRA-Listing.html.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10572 Transparency in Coverage Reporting by Qualified Health Plan Issuers

CMS-10781 FOIA/Privacy Act Requests for Medicare Claims Data via CMS FOIA Public Portal

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Extension of a currently approved collection; Title of Information Collection: Transparency in Coverage Reporting by Qualified Health Plan Issuers; Use: Sections 1311(e)(3)(A)-(C) of the ACA, as implemented at 45 CFR 155.1040(a)-(c) and 156.220, establish standards for qualified health plan (QHP) issuers to submit specific information related to transparency in coverage. QHP issuers are required to post and make data related to transparency in coverage available to the public in plain language and submit this data to the Department of Health and Human Services (HHS), the Exchange, and the state insurance commissioner. Section 2715A of the Public Health Service (PHS) Act as added by the ACA largely extends the transparency provisions set forth in section 1311(e)(3) to non-grandfathered group health plans and health insurance issuers offering group and individual health insurance coverage. Form Number: CMS-10572 (OMB control number: 0938-1310); Frequency: Annually; Affected Public: Private sector (Business or Not-for-profit institutions); Number of Respondents: 360; Total Annual Responses: 360; Total Annual Hours: 17,160. (For policy questions regarding this collection contact Jack Reeves at 301-492-5152).

2. Type of Information Collection Request: New collection (Request for a new OMB control); Title of Information Collection: ; Use: This collection of information is dedicated to Medicare beneficiaries and third party requesters (law firms or others) acting on behalf of beneficiaries that are making requests for CMS to produce Medicare beneficiary records through 5 U.S.C. 552(b) (See also 42 CFR 401.136). Currently the requests are mailed/faxed/emailed to CMS. The new online portal will allow for ease and efficiency to upload the request and required authorization, which will be quickly and securely sent directly to CMS. Additionally, with the new online portal, requesters will be able to securely submit requests electronically that contain PHI or PII; they will be advised that MyMedicare.gov/Blue Button is an online service available for beneficiaries to set up an account to access their own records and give authorization to share with third parties. This secure public online portal will be integrated with the agency's current FOIA/Privacy Act case management system to ensure a centralized location for housing, securing, tracking and processing the incoming requests (See 45 CFR 5.22 and 5.24). Form Number: CMS-10781 (OMB control number: 0938-New); Frequency: Occasionally; Affected Public: Individuals or Households; Number of Respondents: 19,000; Total Annual Responses: 360; Total Annual Hours: 17,160. (For policy questions regarding this collection contact Hugh Gilmore at 410-786-5352).

Dated: July 20, 2021.
William N. Parham, III,
Director, Paperwork Reduction Staff, Office of Strategic Operations and Regulatory Affairs.

[FR Doc. 2021-15756 Filed 7-22-21; 8:45 am]

BILLING CODE 4120-01-P